DEPARTMENT OF STATE

[Public Notice: 10074]

United States Passports Invalid for Travel to, in, or Through the Democratic People's Republic of Korea

ACTION: Notice of passport travel restriction.

SUMMARY: The Department of State is declaring all U.S. passports invalid for travel to the Democratic People's Republic of Korea (North Korea) unless the travel meets certain criteria.

DATES: The travel restriction is in effect on September 1, 2017.

FOR FURTHER INFORMATION CONTACT: Anita Mody, Bureau of Consular Affairs, Passport Services, Office of Legal Affairs, 202-485-6500.

SUPPLEMENTARY INFORMATION: The Department of State has determined that the serious risk to United States nationals of arrest and long-term detention represents imminent danger to the physical safety of United States nationals traveling to and within the Democratic People's Republic of Korea (DPRK), within the meaning of 22 CFR 51.63(a)(3). Therefore, pursuant to the authority of 22 U.S.C. 211a and Executive Order 11295 (31 FR 10603), and in accordance with 22 CFR 51.63(a)(3), all United States passports are declared invalid for travel to, in, or through the DPRK unless specially validated for such travel, as specified at 22 CFR 51.64. The restriction on travel to the DPRK shall be effective 30 days after publication of this Notice, and shall remain in effect for one year unless extended or sooner revoked by the Secretary of State.

Dated: July 21, 2017.
Rex W. Tillerson,
Secretary of State, Department of State.

[FR Doc. 2017-16287 Filed 8-1-17; 8:45 am]

BILLING CODE 4710-06-P